DEPARTMENT OF HOMELAND SECURITY

Federal Emergency Management Agency

[Docket ID FEMA-2017-0002; Internal Agency Docket No. FEMA-B-1735]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: July 13, 2017.
Roy E. Wright,
Deputy Associate Administrator for Insurance and Mitigation, Department of Homeland Security, Federal Emergency Management Agency.

State and county | Location and case No. | Chief executive officer of community | Community map repository | Online location of letter of map revision | Effective date of modification | Community No.
Alabama:
Etowah | City of Gadsden (16-04-6644P) | The Honorable Sherman Guyton, Mayor, City of Gadsden, P.O. Box 267, Gadsden, AL 35901 | City Hall, 90 Broad Street, Gadsden, AL 35901 | http://www.msc.fema.gov/lomc | Oct. 6, 2017 | 010080
Madison | City of Huntsville (16-04-8443P) | The Honorable Thomas M. Battle, Jr., Mayor, City of Huntsville, 308 Fountain Circle, 8th Floor, Huntsville, AL 35801 | City Hall, 308 Fountain Circle, 8th Floor, Huntsville, AL 35801 | http://www.msc.fema.gov/lomc | Sep. 14, 2017 | 010153
Montgomery | City of Montgomery (16-04-7922P) | The Honorable Todd Strange, Mayor, City of Montgomery, 103 North Perry Street, Montgomery, AL 36104 | Engineering Department, 25 Washington Avenue, Montgomery, AL 36104 | http://www.msc.fema.gov/lomc | Aug. 28, 2017 | 010174
Morgan | City of Hartselle (16-04-8327P) | The Honorable Randy Garrison, Mayor, City of Hartselle, 200 Sparkman Street Northwest, Hartselle, AL 35640 | City Hall, 200 Sparkman Street Northwest, Hartselle, AL 35640 | http://www.msc.fema.gov/lomc | Sep. 21, 2017 | 010178
Washington | Unincorporated areas of Washington County (17-04-3238P) | The Honorable Allen Bailey, Chairman, Washington County Board of Commissioners, P.O. Box 146, Chatom, AL 36518 | Washington County Engineering Department, 45 Court Street, Chatom, AL 36518 | http://www.msc.fema.gov/lomc | Sep. 25, 2017 | 010302
Colorado:
Adams | Unincorporated areas of Adams County (17-08-0045P) | The Honorable Eva J. Henry, Chair, Adams County, Board of Commissioners, 4430 South Adams County Parkway, 5th Floor, Suite C5000A, Brighton, CO 80601 | Adams County Community and Economic Development Department, 4430 South Adams County Parkway, 1st Floor, Suite W2000, Brighton, CO 80601 | http://www.msc.fema.gov/lomc | Sep. 22, 2017 | 080001
Arapahoe | City of Centennial (17-08-0306P) | The Honorable Cathy Noon, Mayor, City of Centennial, 13133 East Arapahoe Road, Centennial, CO 80112 | Public Works Department, 13133 East Arapahoe Road, Centennial, CO 80112 | http://www.msc.fema.gov/lomc | Oct. 6, 2017 | 080315
Gilpin | City of Black Hawk (17-08-0165P) | The Honorable David Spellman, Mayor, City of Black Hawk, P.O. Box 17, Black Hawk, CO 80422 | Planning and Development Department, 211 Church Street, Black Hawk, CO 80422 | http://www.msc.fema.gov/lomc | Oct. 6, 2017 | 080076
Jefferson | City of Arvada (17-08-0045P) | The Honorable Marc Williams, Mayor, City of Arvada, 8101 Ralston Road, P.O. Box 8101, Arvada, CO 80001 | Engineering Department, 8101 Ralston Road, Arvada, CO 80001 | http://www.msc.fema.gov/lomc | Sep. 22, 2017 | 085072
| Unincorporated areas of Jefferson County (17-08-0045P) | The Honorable Libby Szabo, Chair, Jefferson County Board of Commissioners, 100 Jefferson County Parkway, Golden, CO 80419 | Jefferson County Planning and Zoning Department, 100 Jefferson County Parkway, Golden, CO 80419 | http://www.msc.fema.gov/lomc | Sep. 22, 2017 | 080087
Florida:
Bay | Unincorporated areas of Bay County (17-04-2939P) | The Honorable William T. Dozier, Chairman, Bay County, Board of Commissioners, 840 West 11th Street, Panama City, FL 32401 | Bay County Planning and Zoning Department, 840 West 11th Street, Panama City, FL 32401 | http://www.msc.fema.gov/lomc | Sep. 20, 2017 | 120004
Charlotte | Unincorporated areas of Charlotte County (17-04-3469P) | The Honorable Bill Truex, Chairman, Charlotte County Board of Commissioners, 18500 Murdock Circle, Port Charlotte, FL 33948 | Charlotte County Community Development Department, 18500 Murdock Circle, Port Charlotte, FL 33948 | http://www.msc.fema.gov/lomc | Oct. 4, 2017 | 120061
Manatee | City of Bradenton (17-04-1546P) | The Honorable Wayne H. Poston, Mayor, City of Bradenton, 101 Old Main Street West, Bradenton, FL 34205 | Building and Construction Services Department, 101 Old Main Street West, Bradenton, FL 34205 | http://www.msc.fema.gov/lomc | Oct. 19, 2017 | 120155
| City of Holmes Beach (17-04-2767P) | The Honorable Bob Johnson, Mayor, City of Holmes Beach, 5801 Marina Drive, Holmes Beach, FL 34217 | Building and Zoning Department, 5801 Marina Drive, Holmes Beach, FL 34217 | http://www.msc.fema.gov/lomc | Oct. 16, 2017 | 125114
| Unincorporated areas of Manatee County (16-04-7267P) | The Honorable Betsy Benac, Chair, Manatee County, Board of Commissioners, P.O. Box 1000, Bradenton, FL 34205 | Manatee County Building and Development Services Department, 1112 Manatee Avenue West, Bradenton, FL 34205 | http://www.msc.fema.gov/lomc | Oct. 19, 2017 | 120153
| Unincorporated areas of Manatee County (17-04-1546P) | The Honorable Betsy Benac, Chair, Manatee County, Board of Commissioners, P.O. Box 1000, Bradenton, FL 34206 | Manatee County Building and Development Services Department, 1112 Manatee Avenue West, Bradenton, FL 34205 | http://www.msc.fema.gov/lomc | Sep. 21, 2017 | 120153
Monroe | Village of Islamorada (17-04-0974P) | The Honorable Jim Mooney, Mayor, Village of Islamorada, 86800 Overseas Highway, Islamorada, FL 33036 | Planning and Development Services Department, 86800 Overseas Highway, Islamorada, FL 33036 | http://www.msc.fema.gov/lomc | Aug. 31, 2017 | 120424
Orange | Unincorporated areas of Orange County (16-04-8268P) | The Honorable Teresa Jacobs, Mayor, Orange County, 201 South Rosalind Avenue, Orlando, FL 32801 | Orange County Stormwater Division, 4200 South John Young Parkway, Orlando, FL 32839 | http://www.msc.fema.gov/lomc | Sep. 22, 2017 | 120179
Osceola | Unincorporated areas of Osceola County (16-04-8268P) | The Honorable Brandon Arrington, Chairman, Osceola County Board of Commissioners, 1 Courthouse Square, Suite 4700, Kissimmee, FL 34741 | Osceola County Stormwater Division, 1 Courthouse Square, Suite 3100, Kissimmee, FL 34741 | http://www.msc.fema.gov/lomc | Sep. 22, 2017 | 120189
Polk | Unincorporated areas of Polk County (16-04-7727P) | The Honorable Melony M. Bell, Chair, Polk County, Board of Commissioners, P.O. Box 9005, Drawer BC01, Bartow, FL 33831 | Polk County Land Development Division, 330 West Church Street, Bartow, FL 33830 | http://www.msc.fema.gov/lomc | Sep. 14, 2017 | 120261
St. Johns | Unincorporated areas of St. Johns County (17-04-1817P) | The Honorable James K. Johns, Chairman, St. Johns County Board of Commissioners, 500 San Sebastian View, St. Augustine, FL 32084 | St. Johns County Building Services Division, 4040 Lewis Speedway, St. Augustine, FL 32084 | http://www.msc.fema.gov/lomc | Sep. 13, 2017 | 125147
Louisiana: Ouachita | City of Monroe (17-06-1426P) | The Honorable James E. Mayo, Mayor, City of Monroe, P.O. Box 123, Monroe, LA 71210 | City Hall, 3901 Jackson Street, Monroe, LA 71202 | http://www.msc.fema.gov/lomc | Aug. 25, 2017 | 220136
Maine: Oxford | Town of Hiram (17-01-0730P) | The Honorable Joyce Siracuse, Chair, Town of Hiram Board of Selectmen, 25 Allard Circle, Hiram, ME 04041 | Town Hall, 25 Allard Circle, Hiram, ME 04041 | http://www.msc.fema.gov/lomc | Aug. 18, 2017 | 230094
Massachusetts: Essex | City of Gloucester (17-01-0964P) | The Honorable Sefatia Romeo Theken, Mayor, City of Gloucester, 9 Dale Avenue, Gloucester, MA 01930 | Community Development Department, 3 Pond Road, Gloucester, MA 01930 | http://www.msc.fema.gov/lomc | Aug. 28, 2017 | 250082
North Carolina:
Carteret | Town of Indian Beach (17-04-0494P) | The Honorable Stewart Pickett, Mayor, Town of Indian Beach, 1400 Salter Path Road, Salter Path, NC 28575 | Planning and Inspections Department, 1400 Salter Path Road, Salter Path, NC 28575 | http://www.msc.fema.gov/lomc | Aug. 28, 2017 | 370433
| Unincorporated areas of Carteret County (17-04-0494P) | The Honorable Mark Mansfield, Chairman, Carteret County Board of Commissioners, 302 Courthouse Square, Beaufort, NC 28516 | Carteret County Planning and Inspections Department, 402 Broad Street, Beaufort, NC 28516 | http://www.msc.fema.gov/lomc | Aug. 28, 2017 | 370043
Onslow | Town of North Topsail Beach (17-04-2762P) | The Honorable Fred J. Burns, Mayor, Town of North Topsail Beach, 2008 Loggerhead Court, North Topsail Beach, NC 28460 | Planning Department, 2008 Loggerhead Court, North Topsail Beach, NC 28460 | http://www.msc.fema.gov/lomc | Oct. 6, 2017 | 370466
Transylvania | Unincorporated areas of Transylvania County (17-04-1024P) | The Honorable Larry Chapman, Chairman, Transylvania County Board of Commissioners, 101 South Broad Street, Brevard, NC 28712 | Transylvania County Inspections Department, 98 East Morgan Street, Brevard, NC 28712 | http://www.msc.fema.gov/lomc | Jun. 27, 2017 | 370230
North Dakota: Morton | City of Mandan (17-08-0166P) | The Honorable Tim Helbling, Mayor, City of Mandan, 203 2nd Avenue Northwest, Mandan, ND 58554 | City Hall, 203 2nd Avenue Northwest, Mandan, ND 58554 | http://www.msc.fema.gov/lomc | Sep. 18, 2017 | 380072
Oklahoma: Oklahoma | City of Midwest City (17-06-0756P) | The Honorable Matthew Dukes, Mayor, City of Midwest City, 100 North Midwest Boulevard, Midwest City, OK 73110 | Engineering Department, 100 North Midwest Boulevard, Midwest City, OK 73110 | http://www.msc.fema.gov/lomc | Oct. 16, 2017 | 400405
Pennsylvania: Allegheny | Township of North Fayette (16-03-2516P) | The Honorable James Morosetti, Chairman, Township of North Fayette Board of Supervisors, 400 North Branch Road, Oakdale, PA 15071 | Community Development Department, 400 North Branch Road, Oakdale, PA 15071 | http://www.msc.fema.gov/lomc | Sep. 11, 2017 | 421085
Texas:
Bexar | City of San Antonio (16-06-2628P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Sep. 21, 2017 | 480045
| City of San Antonio (17-06-1346P) | The Honorable Ivy R. Taylor, Mayor, City of San Antonio, P.O. Box 839966, San Antonio, TX 78283 | Transportation and Capital Improvements Department, Storm Water Division, 1901 South Alamo Street, 2nd Floor, San Antonio, TX 78204 | http://www.msc.fema.gov/lomc | Sep. 29, 2017 | 480045
Dallas and Tarrant | City of Grapevine (17-06-1387P) | The Honorable William D. Tate, Mayor, City of Grapevine, P. O. Box 95104, Grapevine, TX 76099 | City Hall, 200 South Main Street, Grapevine, TX 76051 | http://www.msc.fema.gov/lomc | Sep. 14, 2017 | 480598
Denton | City of The Colony (17-06-0854P) | The Honorable Joe McCourry, Mayor, City of The Colony, 6800 Main Street, The Colony, TX 75056 | City Hall, 6800 Main Street, The Colony, TX 75056 | http://www.msc.fema.gov/lomc | Sep. 11, 2017 | 481581
Harris | Unincorporated areas of Harris County (16-06-4008P) | The Honorable Edward M. Emmett, Harris County Judge, 1001 Preston Street, Suite 911, Houston, TX 77002 | Harris County Permit Office, 10555 Northwest Freeway, Suite 120, Houston, TX 77092 | http://www.msc.fema.gov/lomc | Oct. 16, 2017 | 480287
Tarrant | Town of Flower Mound (17-06-1387P) | The Honorable Thomas Hayden, Mayor, Town of Flower Mound, 2121 Cross Timbers Road, Flower Mound, TX 75028 | Engineering Department, 2121 Cross Timbers Road, Flower Mound, TX 75028 | http://www.msc.fema.gov/lomc | Sep. 14, 2017 | 480777
Travis | City of Austin (16-06-3748P) | The Honorable Steve Adler, Mayor, City of Austin, P.O. Box 1088, Austin, TX 78767 | 1 Texas Center, 505 Barton Springs Road, 12th Floor, Austin, TX 78703 | http://www.msc.fema.gov/lomc | Sep. 11, 2017 | 480624
Utah: Iron | City of Cedar City (17-08-0143P) | The Honorable Maile Wilson, Mayor, City of Cedar City, 10 North Main Street, Cedar City, UT 84720 | City Hall, 10 North Main Street, Cedar City, UT 84720 | http://www.msc.fema.gov/lomc | Oct. 12, 2017 | 490074
Virginia:
Fauquier | Unincorporated areas of Fauquier County (17-03-0226P) | Mr. Paul S. McCulla, Fauquier County Administrator, 10 Hotel Street, Warrenton, VA 20186 | Fauquier County Zoning and Development Services Department, 29 Ashby Street, 3rd Floor, Warrenton, VA 20186 | http://www.msc.fema.gov/lomc | Oct. 12, 2017 | 510055
Prince William | Unincorporated areas of Prince William County (17-03-0300P) | Mr. Christopher E. Martino, Prince William County Executive, 1 County Complex Court, Woodbridge, VA 22192 | Prince William County Department of Public Works, 5 County Complex Court, Woodbridge, VA 22192 | http://www.msc.fema.gov/lomc | Sep. 21, 2017 | 510119

[FR Doc. 2017-16951 Filed 8-10-17; 8:45 am]

BILLING CODE 9110-12-P